DEPARTMENT OF HOUSING AND URBAN DEVELOPMENT

[Docket No. FR-5406-N-02]

Notice of a Federal Advisory Committee Meeting; Manufactured Housing Consensus Committee

AGENCY: Office of the Assistant Secretary for Housing-Federal Housing Commissioner, HUD.

ACTION: Notice of a federal advisory committee meeting.

SUMMARY: This notice sets forth the schedule and proposed agenda of a scheduled meeting of the Manufactured Housing Consensus Committee (the Committee). The meeting is open to the public and the site is accessible to individuals with disabilities.

DATES: The meetings will be held on April 28-30, 2010.

ADDRESSES: These meetings will be held at: Marriott Tulsa Southern Hills, 1902 East 71st Street, Tulsa, OK 74136.

FOR FURTHER INFORMATION CONTACT: Office of Manufactured Housing Programs, Department of Housing and Urban Development, 451 Seventh Street, SW., Room 9164, Washington, DC 20410-8000; telephone 202-708-6409 (this is not a toll-free number). Persons with hearing or speech challenges may access this number through TTY by calling the toll-free Federal Information Relay Service at 800-877-8339.

SUPPLEMENTARY INFORMATION: Notice of this meeting is provided in accordance with section 10(a)(2) of the Federal Advisory Committee Act (5 U.S.C. App.2) and 41 CFR 102-3.150. The Manufactured Housing Consensus Committee was established under section 604(a)(3) of the National Manufactured Housing Construction and Safety Standards Act of 1974, 42 U.S.C. 5403(a)(3), providing:

(A) Purpose—There is established a committee to be known as the “consensus committee”, which shall, in accordance with this title—

(i) Provide periodic recommendations to the Secretary to adopt, revise, and interpret the Federal manufactured housing construction and safety standards in accordance with this subsection;

(ii) Provide periodic recommendations to the Secretary to adopt, revise, and interpret the procedural and enforcement regulations, including regulations specifying the permissible scope and conduct of monitoring in accordance with subsection (b);

(iii) Be organized and carry out its business in a manner that guarantees a fair opportunity for the expression and consideration of various positions and for public participation; and

(iv) Be deemed to be an advisory committee not composed of Federal employees.

Tentative Agenda

Convening of Meeting by HUD.

Call to Order.

Roll Call/Establish Quorum.

Welcome/Introductions/New Members.

Announcements/Administrative

Report from HUD officials.

Call for Committee Reports (information only).

Public Comments.

MHCC recommendations to the Secretary to adopt, revise, and interpret the Federal manufactured housing construction and safety standards.

MHCC recommendations to the Secretary to adopt, revise, and interpret the procedural and enforcement regulations.

Dated: April 6, 2010.
David H. Stevens,
Assistant Secretary for Housing—Federal Housing Commissioner.

[FR Doc. 2010-8425 Filed 4-12-10; 8:45 am]

BILLING CODE 4210-67-P